DEPARTMENT OF THE INTERIOR

Fish and Wildlife Service

Availability of an Environmental Action Statement and Receipt of an Application for a Permit To Enhance the Survival of the Oregon Chub in Lane County, OR Under a Safe Harbor Agreement

AGENCY: Fish and Wildlife Service, Interior.

ACTION: Notice of availability.

SUMMARY: This notice advises the public that Robert Russell (Applicant) has applied to the Fish and Wildlife Service (we, the Service) for an enhancement of survival permit pursuant to section 10(a)(1)(A) of the Endangered Species Act of 1973, as amended (Act) for the Oregon Chub (Oregonichtys crameri) in Lane County, Oregon. This permit application includes a proposed Safe Harbor Agreement (Agreement) between the Applicant and the Service. The proposed permit and Agreement would become effective upon initialization of the Agreement and remain in effect for 30 years. The Service has made a preliminary determination that the proposed Agreement and permit application are eligible for categorical exclusion under the National Environmental Policy Act of 1969 (NEPA). We explain the basis for this determination in an Environmental Action Statement, which also is available for public review.

We announce the opening of a 30-day comment period to receive comments from the public on the Applicant's enhancement of survival permit application, the accompanying proposed Agreement, and Environmental Action Statement.

The Agreement fully describes the proposed project, management actions, and the conservation benefits that will be gained for Oregon chub. The management actions and conservation benefits are also described in the Background section below.

DATES: Written comments must be received by July 9, 2001.

ADDRESSES: Comments should be addressed to the Manager, Fish and Wildlife Service, Oregon Fish and Wildlife Office, fax number (503) 231-6195 (see Public Review and Comment section below).

FOR FURTHER INFORMATION CONTACT: Amy Horstman, Fish and Wildlife Service, Oregon Fish and Wildlife Office, telephone (503) 231-6179.

SUPPLEMENTARY INFORMATION:

Background

Under a Safe Harbor Agreement, participating property owners voluntarily undertake management activities on their property to enhance, restore, or maintain habitat benefitting species listed under the Act. Safe Harbor Agreements encourage private and other non-Federal property owners to implement conservation efforts for listed species by assuring property owners that they will not be subjected to increased property use restrictions if their efforts attract listed species to their property or increase the numbers or distribution of listed species already on their property. Application requirements and issuance criteria for enhancement of survival permits through Safe Harbor Agreements are found in 50 CFR 17.22(c).

We have worked with the Applicant to develop the proposed Agreement for the conservation of Oregon chub within his 800 square meter (0.2 acre) artificial pond in Lane County, Oregon. The area is currently not occupied by Oregon chub or any other Federal or State listed species. Under the proposed Agreement, the Applicant will: (1) Allow translocation of Oregon chub to the pond, (2) allow the Service and Oregon Department of Fish and Wildlife access to the pond for translocation and habitat and chub population monitoring, (3) provide the Service with written notice of intent to modify the pond or introduce competing fish species, (4) work cooperatively with the Service on other issues necessary to further the purposes of the Agreement.

Threats to the Oregon chub include: dam construction, channelization, diking, wetland fill, and loss of riparian vegetation which have changed flooding, streamflow, and temperature patterns of the watershed and subsequent loss of backwater habitats used by Oregon chub (Markle et al. 1991). Degradation of habitat has also occurred, primarily due to sedimentation from construction activities, logging, alterations of water flow, and other causes. Introductions of exotic game fish (e.g., bass, crappie, mosquito fish) may have contributed to the decline of existing Oregon chub populations and may reduce the potential for Oregon chub to recolonize suitable habitats through increased competition for resources, predation, and introduction of parasites and disease (Markle and Pearsons 1990). The proximity of many populations to rail, highway, and power transmission corridors, and state park campgrounds poses the threat of chemical spills, runoff or spill of agricultural or right-of-way maintenance chemicals, and overflow from campground toilets. This Agreement provides a net conservation benefit to Oregon chub by creating a protected refugia for this segment of the Oregon chub population and thereby reducing risks of complete loss of the donor population and thus loss of any unique genetic material. The Agreement is expected to contribute to recovery of Oregon chub by reducing threats and expanding Oregon chub populations. Recovery of the species would be further enhanced by increasing the reproductive viability of the populations.

Under the Agreement, consistent with the Service's Safe Harbor Policy, published in the Federal Register on June 17, 1999 (64 FR 32717), the Service would issue a permit to the Applicant authorizing incidental take of Oregon chub as a result of activities outside of the 15-meter (50-foot) buffer zone around the perimeter of the pond. These activities include: diversion of water for irrigation or other purposes, grazing of livestock upslope of the pond, stocking of fish or amphibian species, logging trees, removal of vegetation surrounding the pond area, use of herbicide or pesticide, and any earthmoving activities upslope of the pond. We expect that the maximum level of incidental take authorized under the proposed Agreement will never be realized.

We are providing this notice pursuant to section 10(c) of the Act and pursuant to implementing regulations for NEPA (40 CFR 1506.6). We will evaluate this permit application, associated documents, and comments submitted thereon to determine whether the permit application meets the requirements of section 10(a) of the Act and NEPA regulations. If, upon completion of the 30-day comment period, we determine that the requirements are met, we will sign the proposed Agreement and issue an enhancement of survival permit under section 10(a)(1)(A) of the Act to the Applicant for take of Oregon chub incidental to otherwise lawful activities in accordance with the terms of the Agreement.

Public Review and Comments

Individuals wishing copies of the permit application, the Environmental Action Statement, or copies of the full text of the Agreement, including a map of the proposed permit area, references, and legal descriptions of the proposed permit area, should contact the office and personnel listed in the ADDRESSES section above.

If you wish to comment on the permit application, the Environmental Action Statement, or the Agreement, you may submit your comments to the address listed in the ADDRESSES section of this document. Comments and materials received, including names and addresses of respondents, will be available for public review, by appointment, during normal business hours at the address in the ADDRESSES section above and will become part of the public record, pursuant to section 10(c) of the Act.

Dated: May 24, 2001.
Rowan W. Gould,
Acting Regional Director, Region 1, Portland, Oregon.

[FR Doc. 01-14323 Filed 6-6-01; 8:45 am]

BILLING CODE 4310-55-P